DEPARTMENT OF ENERGY

Federal Energy Regulatory Commission

Combined Notice of Filings #2

April 27, 2010.

Take notice that the Commission received the following qualifying facility filings:

Docket Numbers: QF10-13-000.

Applicants: Cornell University.

Description: Self Certification of Cogeneration Facility Cornell University (NY).

Filed Date: 10/08/2009.

Accession Number: 20091008-5041.

Comment Date: None Applicable.

Docket Numbers: QF10-88-000.

Applicants: Little Sisters of the Poor, Jeanne Jugan Residence.

Description: Notice of Self Certification of Qualifying Facility Status for a proposed Cogeneration Facility at Little Sisters of the Poor, Jeanne Jugan Residence.

Filed Date: 11/05/2009.

Accession Number: 20091106-0087.

Comment Date: None Applicable.

Docket Numbers: QF10-145-000.

Applicants: Covenant Health Systems, Inc.

Description: Self Certification Notice of Covenant Health Systems.

Filed Date: 12/01/2009.

Accession Number: 20091201-5153.

Comment Date: None Applicable.

Docket Numbers: QF10-272-000.

Applicants: St. Mary's Women and Children's Center.

Description: Qualifying Facility (QF) Application for the St. Mary's Women and Children's Center Cogeneration System in Dorchester, MA.

Filed Date: 01/21/2010.

Accession Number: 20100121-5016.

Comment Date: None Applicable.

Docket Numbers: QF10-290-000.

Applicants: Growpro Inc.

Description: Self Certification Notice of Growpro Inc.

Filed Date: 01/28/2010.

Accession Number: 20100128-5053.

Comment Date: None Applicable.

Docket Numbers: QF10-327-000.

Applicants: Beaufort Regional Health System.

Description: Notice of Self-Certification of Qualifying Status of a Cogeneration Facility of PowerSecure Inc. for Beaufort Regional Health System.

Filed Date: 02/23/2010.

Accession Number: 20100223-5132.

Comment Date: None Applicable.

Docket Numbers: QF10-338-000.

Applicants: Suburban Athletic Club.

Description: Self Certification Notice of Suburban Athletic Club.

Filed Date: 03/02/2010.

Accession Number: 20100302-5027.

Comment Date: None Applicable.

Docket Numbers: QF10-365-000; QF10-366-000.

Applicants: Roger Grimes; Belk Inc.

Description: Belk, Inc. Qualifying Facility Application or PURPA Energy Utility Filing.

Filed Date: 03/17/2010.

Accession Number: 20100317-5093.

Comment Date: None Applicable.

Docket Numbers: QF10-415-000.

Applicants: Massachusetts Department of Corrections Bridgewater Cogeneration Plant.

Description: Certification of Qualifying Facility Status for an Existing or a Proposed Small Power Production or Cogeneration Facility Commonwealth of Massachusetts Department of Corrections.

Filed Date: 04/12/2010.

Accession Number: 20100412-5035.

Comment Date: None Applicable.

Docket Numbers: QF10-418-000.

Applicants: The Trustees of Smith College.

Description: Form 556 of Smith College.

Filed Date: 04/13/2010.

Accession Number: 20100413-5115.

Comment Date: None Applicable.

Docket Numbers: QF10-422-000.

Applicants: Fisher, Dave.

Description: Notice of Certification of Qualifying Facility Status for an Existing or a Proposed Small Power Production or Cogeneration Facility for Dave Fisher.

Filed Date: 04/14/2010.

Accession Number: 20100414-5036.

Comment Date: None Applicable.

Docket Numbers: QF10-427-000.

Applicants: Rigo, Jr., Anthony.

Description: Baker Renewable Energy for 556 of Anthony Rigo Jr.

Filed Date: 04/15/2010.

Accession Number: 20100415-5069.

Comment Date: None Applicable.

Docket Numbers: QF10-429-000.

Applicants: Green, Matthew.

Description: Baker Renewable Energy Form 556 of Matthew Green.

Filed Date: 04/16/2010.

Accession Number: 20100416-5193.

Comment Date: None Applicable.

Docket Numbers: QF10-431-000.

Applicants: Oregon State University.

Description: Self-Certification of a nominal 6.5 MW cogeneration facility on the Oregon State University campus.

Filed Date: 04/19/2010.

Accession Number: 20100419-5191.

Comment Date: None Applicable.

A notice of self-certification or self-recertification does not institute a proceeding regarding qualifying facility status; a notice of self-certification or self-recertification provides notice that the entity making the filing has determined the Facility meets the applicable criteria to be a qualifying facility. Any person seeking to challenge such qualifying facility status may do so by filing a motion pursuant to 18 CFR 292.207(d)(iii).

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Nathaniel J. Davis, Sr.,
Deputy Secretary.

[FR Doc. 2010-10350 Filed 5-3-10; 8:45 am]

BILLING CODE 6717-01-P